FEDERAL TRADE COMMISSION

Granting of Request for Early Termination of the Waiting Period Under the Premerger Notification Rules

Section 7A of the Clayton Act, 15 U.S.C. 18a, as added by Title II of the Hart-Scott-Rodine Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—12/05/2005
20060211 | Novartis AG | Chiron Corporation | Chiron Corporation.
20060214 | MVP Health Plan, Inc | Preferred Care, Inc | Preferred Care, Inc.
20060220 | Allis-Chalmers Energy Inc | Joe Van Matre | Specialty Rental Tools Inc.
20060224 | Josue Christiano Gomes da Silva | Spring Global S.A. | Springs Global S.A.
20060229 | KKR European Fund II, Limited Partnership | Vestar-AIV Holdings A L.P. | FL Spring, S.p.A.
20060235 | Roger S. Penske | Stephen P. Cushman | Cush A-KM, Inc., Cush Enterprises, Cush H-E, Inc., Cush J-KM, Inc., Cush M-E, Inc., M.S.M. Group, Inc.
20060237 | Hanson PLC | PaverModule, Inc. | PaverModule, Inc.
20060240 | Horizon Health Corporation | P. Byron DeFoor | Delaware Investment Associates, LLC, Focus Healthcare, LLC, Focus Healthcare of Delaware, LLC, Focus Health of Florida, LLC, Focus Healthcare of Georgia, LLC, Focus Healthcare of Ohio, LLC, Highpoint Investment, LLC.
20060241 | Ronald B. Dana | Rex V. Ecoff | Liquid Transport Corp.
20060242 | Francisco Partners, L.P. | FrontRange Limited | Cayo Communications, Inc., FrontRange Solutions Inc.
20060259 | Lodge Holdco I LLC | La Quinta Corporation | La Quinta Corporation.
20060264 | Berkshire Fund VI, L.P. | PDS Associates, Inc. | PDS Associates, Inc.
20060267 | GUS plc | PriceGrabber.com, LLC | PriceGrabber.com, LLC.
Transactions Granted Early Termination—12/06/2005
20060215 | Aleris International, Inc. | Ormet Corporation | Ormet Corporation.
20060275 | Jones Lang LaSalle Incorporation | Spaulding and Slye Partner LLC | Spaulding and Slye LLC.
Transactions Granted Early Termination—12/08/2005
20060256 | U.S. Bancorp | Wachovia Corporation | Delaware Trust Company, National Association, Wachovia Bank and Trust Company (Cayman) Ltd., Wachovia Bank, National Association, Wachovia Bank of Delaware, National Association, Wachovia Trust Company of California.
20060277 | Avnet, Inc. | Calence, LLC | Calence, LLC.
20060279 | General Atlantic Partners 82, L.P. | NYMEX Holdings, Inc. | NYMEX Holdings, Inc.
Transactions Granted Early Termination—12/09/2005
20060253 | Goense Bounds & Partners A, L.P. | Frank Scardino | Capital Drywall, Inc.
20060254 | Goense Bounds & Partners A, L.P. | James R. Gates and Angela Gates | Capital Drywall, Inc.
20060282 | Aetna Inc. | Express Scripts, Inc. | Aetna Specialty Pharmacy, LLC.
20060285 | Merrill Corporation | WordWave, Inc. | WordWave, Inc.
20060286 | Franz Haniel & Cie. GmbH | George Mosher | Alfax Wholesale Furniture, Inc., National Business Furniture, Inc., Officefurniture.com, Inc.
20060288 | Kelso Investment Associates VII, L.P. | Voting Trust 12/4/68 of v/s of Hallmark Cards, Incorporated | Hallmark Entertainment, LLC.
20060303 | Gores ENT Holdings, Inc. | Enterasys Networks, Inc. | Enterasys Networks, Inc.
Transactions Granted Early Termination—12/12/2005
20060231 | Agrium Inc. | Royster-Clark Ltd. | Royster-Clark Ltd.
20060250 | Novartis AG | Abbott Laboratories | TAP Pharmaceutical Products Inc.
20060251 | Novartis AG | Takeda Pharmaceuticals Company, Ltd | TAP Pharmaceutical Products, Inc.
20060255 | Legg Mason Investment Trust, Inc. | Syntroleum Corporation | Syntroleum Corporation.
20060257 | Intel Corporation | Micron Technology, Inc. | Micron Technology, Inc.
20060271 | Deutsche Bahn AG | The Brink's Company | BAX Global Inc.
20060300 | CSK Auto Corporation | J.W. Childs Equity Partners III, L.P. | Murray's Discount Auto Stores.
20060301 | Macquarie Bank Limited | The Mallah Organizations, Inc. | TMO Parent LLC.
20060306 | D.E. Shaw Composite International Fund | KRG Capital Fund II, L.P. | Aspen Marketing Holdings, Inc.
20060314 | Tate & Lyle PLC | Continental Custom Ingredients, Inc. | Continental Custom Ingredients, Inc.
20060315 | DC Chemical Co., Ltd. | Phelps Dodge Corporation | Columbia Chemical Company.
Transactions Granted Early Termination—12/13/2005
20060276 | Anheuser-Busch Employees' Credit Union | Merian Credit Union | Merian Credit Union.
20060287 | Cortec Group Fund III, L.P. | Linsalata Capital Partners Fund III, L.P. | Snyder Acquisition Corporation.
20060294 | Garda World Security Corporation | SPX Corporation | Vance International, Inc.
Transactions Granted Early Termination—12/14/2005
20060280 | The George B. Horne Voting Trust | Evan J. Segal | Dormont Manufacturing Company, Dormont Realty Partners LLC.
200602894 | MKS Instruments, Inc. | TWCP, L.P. | Ion Systems, Inc.
20060295 | Marathon Fund Limited Partnership V | Westlake Hardware, Inc. | Westlake Hardware, Inc.
20060297 | SAP AG | KhiMetrics, Inc. | KhiMetrics, Inc.
20060305 | Dycom Industries, Inc. | The Berwind Company LLC | Prince Telecom Holdings, Inc.
Transactions Granted Early Termination—12/16/2005
20060260 | Hoshizaki Electric Company, Ltd. | Lancer Corporation | Lancer Corporation.
20060291 | Reckitt Benckiser PLC | Boots Group PLC | BHI Holdings (BHI) Limited, Boots Healthcare Deutschland GmbH, The Boots Company plc.
Transactions Granted Early Termination—12/19/2005
20060261 | The TriZetto Group, Inc. | CareKey, Inc. | CareKey, Inc.
20060273 | Finmeccanica S.p.A. | Textron Inc. | Bell/Agusta Aerospace Company LLC.
20060304 | Western Forest Products Inc. | Partners Limited | Cascadia Forest Products Ltd.
20060316 | A.B.C. Learning Centres Limited | Benjamin R. Jacobson | Learning Care Group, Inc.
20060317 | Christopher M. Jeffries | The Sports Club Company, Inc. | Pontius Realty, Inc., SF Sports Club, Inc., Talla New York, Inc., Washington D.C. Sports Club, Inc.
20060319 | Spring Nextel Corporation | Alamosa Holdings, Inc. | Alamosa Holdings, Inc.
20060323 | Archer-Daniels-Midland Company | Mellon Financial Corporation | Mellon Financial Corp. #4.
20060325 | Gray Television, Inc. | University of Notre Dame du Lac | Michiana Telecasting Corp.
20060336 | MHM Holdings GmbH | Bilakhia Holdings Private Limited | Micro Inks Limited.
Transactions Granted Early Termination—12/20/2005
20060308 | Roche Holding Ltd. | BioCryst Pharmaceuticals, Inc. | BioCryst Pharmaceuticals, Inc.
20060326 | Bank of America Corporation | Precision Camera & Video Repair, Inc. | Precision Camera & Video Repair, Inc.
20060332 | Saurer AG | Fairfield Manufacturing Company, Inc. | Fairfield Manufacturing Company, Inc.
20060333 | Brazos Electric Power Cooperative, Inc | Dean Vanech | Ponderosa Pine Energy Partners, Ltd.
20060338 | MarineMax, Inc. | Cecil Van Tuyl | Lake Port Marine, Inc., Port Arrowhead, Inc., Port Arrowhead Marine, Inc.
Transactions Granted Early Termination—12/21/2005
20060327 | OCM/GFI Power Opportunities Fund II, L.P. | GT Equipment Technologies, Inc. | GT Equipment Technologies, Inc.
Transactions Granted Early Termination—12/22/2005
20060565 | Sierra Pacific Resources | Pinnacle West Capital Corporation | GenWest, LLC.
20060263 | Wyeth | Trubion Pharmaceuticals, Inc. | Trubion Pharmaceuticals, Inc.
20060346 | Embridge Inc. | BP P.L.C. | Olympic Pipe Line Company.
Transactions Granted Early Termination—12/23/2005
20060335 | Richard L. Scott | Secure Computing Corporations | Secure Computing Corporations.
20060345 | Danaher Corporation | Visual Networks, Inc. | Visual Networks, Inc.
20060347 | Yell Group PLC | James W. Clarke, Sr. | Clarke Directory Publications, Inc.
20060349 | PMC-Sierra, Inc. | Bali Investments S.a.r.l. | Avago Technologies Storage (U.S.A.) Inc.
20060356 | Brown & Brown, Inc. | Horace M. Johnson, Jr. | Axion Intermediaries, LLC.
20060359 | Sprint Nextel Corporation | Velocita Holdings, LLC | Velocita Wireless Holding Corp.
20060361 | The Related Company, L.P. | Equinox Holdings, L.P. | Equinox Holdings, L.P.
20060363 | OCM/GFA Power Opportunities Fund II, L.P. | Equitable Resources Inc. | Noresco Holdings, Inc.
20060366 | Steel Dynamics, Inc. | Roanoke Electric Steel Corporation | Roanoke Electric Steel Corporation.
20060377 | Silver Lake Partners II, L.P. | Serena Software, Inc. | Serena Software, Inc.

FOR FURTHER INFORMATION CONTACT: Sandra M. Peay, Contact Representative or Renee Hallman, Contact Representative, Federal Trade Commission, Premerger Notification Office, Bureau of Competition, Room H-303, Washington, DC 20580, (202) 326-3100.

By Direction of the Commission.
Donald S. Clark,
Secretary.

[FR Doc. 06-176 Filed 1-09-06; 8:45 am]

BILLING CODE 6750-01-M